DEPARTMENT OF COMMERCE

National Oceanic and Atmospheric Administration

[RTID 0648-XC195]

Marine Mammals; File No. 26329

AGENCY: National Marine Fisheries Service (NMFS), National Oceanic and Atmospheric Administration (NOAA), Commerce.

ACTION: Notice; receipt of application.

SUMMARY: Notice is hereby given that Brandon Southall, Ph.D., Southall Environmental Associates, Inc., 9099 Soquel Drive, Suite 8, Aptos, CA 95076, has applied in due form for a permit to conduct research or enhancement on 17 species of cetaceans including endangered blue (Balaenoptera musculus), fin (B. physalus), humpback (Megaptera novaeangliae), and sperm (Physeter macrocephalus) whales.

DATES: Written, telefaxed, or email comments must be received on or before August 22, 2022.

ADDRESSES: The application and related documents are available for review by selecting “Records Open for Public Comment” from the “Features” box on the Applications and Permits for Protected Species (APPS) home page, https://apps.nmfs.noaa.gov, and then selecting File No. 26329 from the list of available applications. These documents are also available upon written request via email to NMFS.Pr1Comments@noaa.gov.

Written comments on this application should be submitted via email to NMFS.Pr1Comments@noaa.gov. Please include File No. 26329 in the subject line of the email comment.

Those individuals requesting a public hearing should submit a written request via email to NMFS.Pr1Comments@noaa.gov. The request should set forth the specific reasons why a hearing on this application would be appropriate.

FOR FURTHER INFORMATION CONTACT: Amy Hapeman or Sara Young, (301) 427-8401.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), the regulations governing the taking, importing, and exporting of endangered and threatened species (50 CFR parts 222-226), and the Fur Seal Act of 1966, as amended (16 U.S.C. 1151 et seq.).

The applicant proposes to study behavioral responses of cetaceans in California waters. Researchers seek to identify key characteristics of species-typical calling, diving, feeding, social, and movement behavior in cetaceans, and under what conditions and contexts these behaviors are affected by human noise disturbance. Researchers would approach cetaceans by vessel for observations, suction-cup tagging, collection of sloughed skin, acoustic playbacks, prey mapping, photo-identification, and unintentional harassment. Except for playbacks, some research activities would occur in conjunction with separately authorized U.S. Navy operations. Five pinniped species, including endangered Guadalupe fur seals (Arctocephalus townsendi), may be unintentionally harassed during fieldwork. Take numbers for each species can be found in the application's take table. The permit would be valid for five years.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: July 18, 2022.
Julia M. Harrison,
Chief, Permits and Conservation Division, Office of Protected Resources, National Marine Fisheries Service.

[FR Doc. 2022-15591 Filed 7-20-22; 8:45 am]

BILLING CODE 3510-22-P